DEPARTMENT OF HEALTH AND HUMAN SERVICES

[Document Identifier: OS-0990-0313]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: National Blood Collection and Utilization Survey—Extension—OMB No. 0990-0313—The Office of the Advisory Committee on Blood Safety and Availability.

Abstract: The NBCUS is a biennial survey of the blood collection and utilization community to produce reliable and accurate estimates of national and regional collections, utilization and safety of all blood products.

The objective of the NBCUS is to produce reliable and accurate estimates of national and regional collections, utilization, and safety of all blood products—red blood cells, fresh frozen plasma, and platelets, as well as related cellular therapy products. This survey will significantly improve the federal government's capacity to understand the dynamics of blood supply, safety and availability, and to provide a quantitative basis for assessing strategic and regulatory agendas. An important purpose of the 2011 survey is to help the federal government continue to monitor trends in blood availability since a variety of factors have come to play that have reduced the number of people eligible to give blood and, as stated in the evolving National Strategic Plan for Blood, this information is critical to ensure an adequate supply of safe blood in the United States.

Estimated Annualized Burden Table
Type of respondent | Number of respondents | Number of responses per respondent | Average burden hours per response | Total burden hours
Hospitals, blood collection centers, cord blood banks | 3,000 | 1 | 1 | 3,000

Terry Nicolosi,
Office of the Secretary, Paperwork Reduction Act Reports Clearance Officer.

[FR Doc. 2010-10085 Filed 4-29-10; 8:45 am]

BILLING CODE 4150-41-P